DEPARTMENT OF COMMERCE

Foreign-Trade Zones Board

[Order No. 1860]

Approval for Manufacturing Authority, Foreign-Trade Zone 99, Fisker Automotive, Inc., (Electric Passenger Vehicles), Wilmington, DE

Pursuant to its authority under the Foreign-Trade Zones Act of June 18, 1934, as amended (19 U.S.C. 81a-81u) (the Act), the Foreign-Trade Zones Board (the Board) adopts the following Order:

Whereas, the Delaware Economic Development Office, grantee of FTZ 99, has requested manufacturing authority on behalf of Fisker Automotive, Inc., within FTZ 99—Site 2, Wilmington, Delaware (FTZ Docket 23-2012, filed 3-23-2012);

Whereas, notice inviting public comment has been given in the Federal Register (77 FR 19000, 3-29-2012) and the application has been processed pursuant to the FTZ Act and the Board's regulations; and,

Whereas, the Board adopts the findings and recommendations of the examiner's report, and finds that the requirements of the FTZ Act and the Board's regulations would be satisfied, and that the proposal would be in the public interest if subject to the restriction listed below;

Now, therefore, the Board hereby orders:

The application for manufacturing authority under zone procedures within FTZ 99 on behalf of Fisker Automotive, Inc. (Fisker), as described in the application and Federal Register notice, is approved, subject to the FTZ Act and the Board's regulations, including Section 400.13, and further subject to the following condition:

Fisker must admit all foreign man-made fiber and cotton bags (HTSUS Subheadings 4202.12.8030, 4202.12.8070, 4202.92.4500, 4202.92.9060, 4202.99.9000, 6305.20), labels and cords (6307.90), and felt (5602.90) to the zone under privileged foreign status (19 CFR 146.41) or domestic (duty-paid) status (19 CFR 146.43).

Signed at Washington, DC, this 20th day of September 2012.
Paul Piquado,
Assistant Secretary for Import Administration, Alternate Chairman, Foreign-Trade Zones Board.

Attest:

Andrew McGilvray,
Executive Secretary.

[FR Doc. 2012-24542 Filed 10-3-12; 8:45 am]

BILLING CODE P